DEPARTMENT OF ENERGY

Environmental Management Site-Specific Advisory Board, Hanford

AGENCY: Department of Energy, Office of Environmental Management.

ACTION: Notice of open meeting: Correction.

SUMMARY: On February 6, 2019, the Department of Energy published a notice of open meeting announcing a meeting on April 10-11, 2019 of the Environmental Management Site-Specific Advisory Board, Hanford (84 FR 2193). This document makes a correction to that notice.

FOR FURTHER INFORMATION CONTACT: Kristen Holmes, Federal Coordinator, Department of Energy Richland Operations Office, P.O. Box 550, H5-20, Richland, WA 99352; Phone: (509) 376-5803; or Email: kristen.l.holmes@rl.doe.gov.

Corrections

In the Federal Register of February 6, 2019, in FR Doc. 2019-01140, on page 2193, please make the following correction:

In that notice under DATES, first column, second paragraph, the meeting dates have been changed. The original meeting dates were April 10-11, 2019. The new meeting dates are April 17-18, 2019.

Signed in Washington, DC, on March 13, 2019.
LaTanya Butler,
Deputy Committee Management Officer.

[FR Doc. 2019-04984 Filed 3-15-19; 8:45 am]

BILLING CODE 6450-01-P